ENVIRONMENTAL PROTECTION AGENCY

[FRL OP-OFA-064]

Environmental Impact Statements; Notice of Availability

Responsible Agency: Office of Federal Activities, General Information 202-564-5632 or https://www.epa.gov/nepa.

Weekly receipt of Environmental Impact Statements (EIS)

Filed March 27, 2023 10 a.m. EST Through April 3, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230044, Final, USFS, OR, Youngs Rock Rigdon, Review Period Ends: 05/22/2023, Contact: Hilary Henry 541-460-0754.

EIS No. 20230045, Draft, FERC, WA, Goldendale Energy Storage Project, Comment Period Ends: 06/06/2023, Contact: Office of External Affairs 866-208-3372.

EIS No. 20230046, Final, USFS, CA, North Yuba Landscape Resilience Project, Review Period Ends: 05/23/2023, Contact: John Brokaw 530-265-4531.

EIS No. 20230047, Final, USA, CA, Training and Public Land Withdrawal Extension, Fort Irwin, California, Review Period Ends: 05/08/2023, Contact: Renita Wickes 760-380-4511.

Dated: April 3, 2023.
Cindy S. Barger,
Director, NEPA Compliance Division, Office of Federal Activities.

[FR Doc. 2023-07346 Filed 4-6-23; 8:45 am]

BILLING CODE 6560-50-P